PRIVACY AND CIVIL LIBERTIES OVERSIGHT BOARD

[Notice-PCLOB-2022-03; Docket No. 2022-0009; Sequence No. 3]

Notice of the PCLOB Oversight Project Examining Section 702 of the Foreign Intelligence Surveillance Act (FISA)

AGENCY: Privacy and Civil Liberties Oversight Board (PCLOB).

ACTION: Notice; Request for public comment.

SUMMARY: The Board seeks public comments on the PCLOB's Oversight Project examining section 702 of the Foreign Intelligence Surveillance Act (FISA).

DATES: Public comments may be submitted any time prior to the closing of the docket at 11:59 p.m., EDT, on Monday, October 31, 2022.

ADDRESSES: You may submit comments responsive to notice PCLOB-2022-03 via http://www.regulations.gov. Please search by Notice PCLOB-2022-03 and follow the on-line instructions for submitting comments. Responsive comments received generally will be posted without change to regulations.gov, including any personal and/or business confidential information provided. To confirm receipt of your comment(s), please check regulations.gov approximately two-to-three business days after submission to verify posting.

FOR FURTHER INFORMATION CONTACT: Alan Silverleib, Public and Legislative Affairs Officer, at 202-296-4190 or pao@pclob.gov.

SUPPLEMENTARY INFORMATION: The Board seeks public comments regarding questions it should explore, and recommendations it should consider making, in connection with its oversight project to examine the surveillance program operated pursuant to section 702 of FISA, in anticipation of the December 2023 sunset date for section 702 and the upcoming public and Congressional consideration of its reauthorization. The goals of the Oversight Project are to ensure that privacy and civil liberties are protected in the course of the Executive Branch's use of its Section 702 authorities, and to ensure that Congress and the public are able appropriately to assess and consider the program's value and efficacy in protecting the nation's security and producing useful intelligence.

The Board's review will include an examination of significant changes to the operation of the 702 program since the Board's Report on the Surveillance Program Operated Pursuant to Section 702 of the Foreign Intelligence Surveillance Act (July 2, 2014) (“2014 Report”), investigation of U.S. Person queries of information collected under section 702, investigation of `Upstream' collection conducted pursuant to section 702, and review of the program's past and projected value and efficacy, as well as the adequacy of existing privacy and civil liberties safeguards.

David Coscia,
Agency Liaison Officer, Office of Presidential & Congressional Agency Liaison Services, General Services Administration.

[FR Doc. 2022-20415 Filed 9-23-22; 8:45 am]

BILLING CODE 6820-B5-P